DEPARTMENT OF HEALTH AND HUMAN SERVICES

National Institutes of Health

National Institute on Aging; Notice of Meeting

Pursuant to section 1009 of the Federal Advisory Committee Act, as amended, notice is hereby given of a meeting of the Board of Scientific Counselors, NIA.

The meeting will be open to the public as indicated below, with attendance limited to space available. Individuals who plan to attend and need special assistance, such as sign language interpretation or other reasonable accommodations, should notify the Contact Person listed below in advance of the meeting.

The meeting will be closed to the public as indicated below in accordance with the provisions set forth in sections 552b(c)(4) and 552b(c)(6), title 5 U.S.C., as amended for the review, discussion, and evaluation of individual grant applications conducted by the National Institute On Aging, including consideration of personnel qualifications and performance, and the competence of individual investigators, the disclosure of which would constitute a clearly unwarranted invasion of personal privacy.

Name of Committee: Board of Scientific Counselors, NIA Board of Scientific Counselors, NIA.

Date: October 22-24, 2024.

Closed: October 22, 2024, 8:00 a.m. to 8:45 a.m.

Agenda: Executive Session; Opening Remarks (Richard J. Hodes, M.D., NIA Director, and Luigi Ferrucci, M.D., Ph.D., Scientific Director, NIA); Board Business (Holly M. Brown-Borg, Ph.D., Acting Chairperson).

Place: National Institutes of Health, Biomedical Research Center, 3C211/Virtual, 251 Bayview Boulevard, Baltimore, MD 21224 (Virtual Meeting).

Open: October 22, 2024, 8:45 a.m. to 11:30 a.m.

Agenda: Translational Gerontology Branch Overview (Rafael de Cabo, Ph.D., Laboratory Chief, Senior Investigator, TGB Reviewers); Discussion; (Robert Brosh, Ph.D., Senior Investigator, TGB Reviewers); Discussion; Break; (Natan Basisty, Ph.D., NIH Distinguished Investigator, Tenure-Track Investigator, Translational Gerontology Branch); Discussion.

Place: National Institutes of Health, Biomedical Research Center, 251 Bayview Boulevard, Baltimore, MD 21224 (Virtual Meeting).

Closed: October 22, 2024, 11:30 a.m. to 2:00 p.m.

Agenda: Drs. de Cabo, Brosh, and Basisty meet individually and privately with BSC members; Break; Executive Session Luncheon.

Place: National Institutes of Health, Biomedical Research Center, 251 Bayview Boulevard, Baltimore, MD 21224 (Virtual Meeting).

Open: October 22, 2024, 2:00 p.m. to 4:00 p.m.

Agenda: (Isabel Beerman, Ph.D., Earl Stadtman Tenure-Track Investigator, Translational Gerontology Branch Reviewers); Discussion (Rafael de Cabo, Ph.D., Senior Investigator, Translational Gerontology Branch Reviewers); Discussion.

Place: National Institutes of Health, Biomedical Research Center, 251 Bayview Boulevard, Baltimore, MD 21224 (Virtual Meeting).

Closed: October 22, 2024, 4:00 p.m. to 6:00 p.m.

Agenda: Drs. Beerman and de Cabo meet individually and privately with BSC members; Break; Executive Session; Adjourn.

Place: National Institutes of Health, Biomedical Research Center, 251 Bayview Boulevard, Baltimore, MD 21224 (Virtual Meeting).

Closed: October 23, 2024, 8:00 a.m. to 8:30 a.m.

Agenda: Executive Session; Opening Remarks (Richard J. Hodes, M.D., NIA Director, and Luigi Ferrucci, M.D., Ph.D., Scientific Director, NIA); Board Business (Holly M. Brown-Borg, Ph.D., Acting Chairperson).

Place: National Institutes of Health, Biomedical Research Center, 3C211/Virtual, 251 Bayview Boulevard, Baltimore, MD 21224 (Virtual Meeting).

Open: October 23, 2024, 8:30 a.m. to 11:30 a.m.

Agenda: (Julie Mattison, Ph.D., Staff Scientist 2 (Facility Head), Translational Gerontology Branch Reviewers); Discussion; (Baltimore Longitudinal Study of Aging) (Eleanor Simonsick, Ph.D., Epidemiologist, Translational Gerontology Branch Reviewers); Discussion; Break; Title (Nigel Greig, Ph.D., Senior Investigator, Translational Gerontology Branch Reviewers); Discussion).

Place: National Institutes of Health, Biomedical Research Center, 251 Bayview Boulevard, Baltimore, MD 21224 (Virtual Meeting).

Closed: October 23, 2024, 11:30 a.m. to 1:30 p.m.

Agenda: Drs. Mattison, Simonsick, and Greig meet individually and privately with BSC members; Executive Session Luncheon.

Place: National Institutes of Health, Biomedical Research Center, 3A519/Virtual, 251 Bayview Boulevard, Baltimore, MD 21224 (Virtual Meeting).

Open: October 23, 2024, 1:30 p.m. to 2:30 p.m.

Agenda: (Luigi Ferrucci, M.D., Senior Investigator, Translational Gerontology Branch Reviewers); Discussion.

Place: National Institutes of Health, Biomedical Research Center, 251 Bayview Boulevard, Baltimore, MD 21224 (Virtual Meeting).

Closed: October 23, 2024, 2:30 p.m. to 6:00 p.m.

Agenda: Dr. Ferrucci meets individually and privately with BSC members; Break; Laboratory/Branch Leadership Overview (Rafael del Cabo, Ph.D., Laboratory Chief, Senior Investigator, Translational Gerontology Branch Discussion Leader); Discussion with the Laboratory/Branch Chief; Leadership Review Discussion; Break; BSC members to meet with Fellows from Laboratory of Behavioral Neuroscience; Executive Session; Adjourn.

Place: National Institutes of Health, Biomedical Research Center, 251 Bayview Boulevard, Baltimore, MD 21224 (Virtual Meeting).

Closed: October 24, 2024, 8:00 a.m. to 8:30 a.m.

Agenda: Executive Session; Opening Remarks (Richard J. Hodes, M.D., NIA Director, and Luigi Ferrucci, M.D., Ph.D., Scientific Director, NIA); Board Business (Holly Brown-Borg, Ph.D., Acting Chairperson).

Place: National Institutes of Health, Biomedical Research Center, 3C211/Virtual, 251 Bayview Boulevard, Baltimore, MD 21224 (Virtual Meeting).

Open: October 24, 2024, 8:30 a.m. to 10:15 a.m.

Agenda: (AD Concept) (Luigi Ferrucci, M.D., Ph.D., Senior Investigator, Translational Gerontology Branch Reviewer); Discussion; (AD Concept) (Keenan Walker, Ph.D., NIH Distinguished Scholar, Tenure-track Investigator of Behavioral Neurosciences Reviewers); Discussion; (AD R&D Concept) (Mustapha Bouhrara, Ph.D., Earl Stadtman Tenure-Track Investigator, Laboratory of Clinical Investigator Reviewers); Discussion; Break.

Place: National Institutes of Health, Biomedical Research Center, 251 Bayview Boulevard, Baltimore, MD 21224 (Virtual Meeting).

Closed: October 24, 2024, 10:15 a.m. to 11:30 a.m.

Agenda: Executive Session Luncheon; Adjourn.

Place: National Institutes of Health, Biomedical Research Center, 3A519/Virtual, 251 Bayview Boulevard, Baltimore, MD 21224 (Virtual Meeting).

Contact Person: Luigi Ferrucci, M.D., Ph.D., Scientific Director, National Institute on Aging, 251 Bayview Boulevard, Suite 100, Room 4C225, Baltimore, MD 21224, 410-558-8110, LF27Z@NIH.GOV.

(Catalogue of Federal Domestic Assistance Program Nos. 93.866, Aging Research, National Institutes of Health, HHS)

Dated: July 2, 2024.
Miguelina Perez,
Program Analyst, Office of Federal Advisory Committee Policy.

[FR Doc. 2024-14968 Filed 7-8-24; 8:45 am]

BILLING CODE 4140-01-P